ENVIRONMENTAL PROTECTION AGENCY

[FRL-7438-9]

Innovative Technologies for Remote Collection of Data for the National Children's Study; Notice: Request for Information

AGENCY: Environmental Protection Agency.

ACTION: Notice; request for information for Innovative Technologies for Remote Collection of Data for the National Children's Study.

SUMMARY: This request for information from the National Center for Environmental Assessment, Office of Research and Development for Innovative Technologies for Remote Collection of Data for the National Children's Study is for state-of-the-art technology (currently available and those possible in the future) to enhance data collection for this longitudinal study currently being planned by a coalition of federal agencies. This request for information (RFI) is intended strictly for market research purposes and may not lead to a solicitation or contract.

The National Children's Study (NCS) is a large long-term study of environmental influences on children's health and development. This study will explore a broad range of environmental factors, both helpful and harmful, that influence the health and well-being of children. For this study, environment is broadly defined to include chemical, physical, social, and behavioral influences on children, and to better understand the role of these factors on health and disease. More information on the NCS is available at http://www.NationalChildrensStudy.gov.

In initial discussions, the NCS Technology Group, consisting of technology experts within the federal government, has highlighted the utility of remote collection of data for longitudinal studies. Approaches identified include the use of Personal Digital Assistant (PDA), wireless technology, the Internet, and other technologies currently in development for collection of data between in-person visits/appointments. The three major areas discussed include: (1) Collection of questionnaire data (e.g., diaries, symptom check lists, information on doctor's visits, and medications); (2) measurement and transmittal of environmental measurements (e.g., devices that measure indoor or outdoor air quality, store the data over time, and transmit it to a central data location either by phone hook-up or wireless technology; devices used that collect samples, e.g., dust or volatile organic compounds that can be sent to laboratories for analysis; and Global Positional System (GPS) devices that would transmit location for use in Geographic Information Systems (GIS) analyses); and (3) measurement and transmittal of health/biological measurements such as physiological measures (e.g., blood pressure, heart rate, and weight).

The information provided as a response to this RFI will be included with background material in a meeting being planned to discuss these issues. Presentations and discussions during this workshop will identify the most promising and urgent of the above issues, identify existing technology that could be used or adapted for use, along with a discussion of security and confidentiality. For example, regardless of the study design, use of remote technologies for collection of questionnaire data will be a data collection method implemented from the beginning of the study. Other items will be ranked by urgency and amount of lead time needed for development. Part of this exercise would be the identification of pros and cons of the proposed technology.

The government is also seeking information from hardware and software vendors to ensure that all available commercial-off-the-shelf (COTS) products that provide capabilities applicable to the NCS have been identified. All manufacturers and suppliers of appropriate technology that could be applied to support the NCS are offered this opportunity to describe how the government can best employ their products to meet the NCS mission needs.

In addition to currently available products, the government wants to understand the capabilities of leading-edge products currently under development that will be available by mid Fiscal Year 2004. The information submitted will be used to assist the government in the continuing development of its NCS implementation strategy.

This RFI is the first of several steps to solicit input and interest from the vendor community and to promote competition in response to needed technology for the NCS. We expect to issue other RFIs as planning evolves.

DATES: Information should be submitted via website not later than January 31, 2003, to http://www.NationalChildrensStudy.gov. Responses submitted after this date will not be accepted. The government will not request additional information or discuss submissions received in response to this RFI with individual responders.

ADDRESSES: Submit responses to NCS.Technology@epa.gov (http://www.NationalChildrensStudy.gov). Responses are limited to a total of 20 pages, and in WordPerfect or Microsoft Word. Page size must be 8.5 × 11'', font must be 12 point or larger, and margins must be at least 1 inch. Briefly describe your product, the company that produces it, and the company's other products, services, history, ownership, and information you deem relevant. Provide points of contact for the product, including name, address (also include web address, if available), phone/fax number, and email address. Discuss technical feasibility alternatives and provide nonbinding order-of-magnitude cost and estimates of developmental time for the alternatives. Hardware and software vendors should submit a concept paper describing how the product could meet potential NCS needs. Indicate whether your product is commercially available or is on the General Services Administration Federal Supply Schedule. Supplemental product brochures or marketing materials outlining specifications and capabilities also may be submitted, and will not be counted in the overall page count limits.

FOR FURTHER INFORMATION CONTACT: For further information, please contact Sherry G. Selevan, Ph.D.; mailing address: National Center for Environmental Assessment-Washington (8623D), U.S. Environmental Protection Agency, Washington, DC 20460; telephone: 202-564-3312; facsimile: 202-565-0078; e-mail: selevan.sherry@epa.gov.

SUPPLEMENTARY INFORMATION:

Disclaimer

This RFI is issued for information and planning purposes only and does not constitute a solicitation. The government does not intend to award a contract on the basis of this RFI or to otherwise pay for information received in response to this RFI. Responses to the RFI will not be returned, and because they will be available for background material for a workshop, submission will not be treated as proprietary. Information provided in response to this RFI will be used to assess tradeoffs and alternatives available for determining how to proceed in the planning process for the NCS and may lead to the development of a specification for the NCS. In accordance with FAR 15.201(e), responses to this RFI are not offers and cannot be accepted by the government to form a binding contract. Responders are solely responsible for all expenses associated with responding to this RFI.

Dated: January 3, 2003.
George Alapas,
Acting Director, National Center for Environmental Assessment.

[FR Doc. 03-735 Filed 1-13-03; 8:45 am]

BILLING CODE 6560-50-P